FEDERAL ELECTION COMMISSION

Sunshine Act Notices

AGENCY: Federal Election Commission.

DATE & TIME: Thursday, March 4, 2010, at 11 a.m.

Place: 999 E Street, NW., Washington, DC (Ninth Floor).

Status: This hearing will be open to the public.

Audit Hearing: AFL-CIO Cope Political Contributions Committee.

DATE & TIME: Thursday, March 4, 2010, at 2 p.m.

Place: 999 E Street, NW., Washington, DC (Ninth Floor).

Status: This hearing will be open to the public.

Audit Hearing: The Jefferson Committee.

Individuals who plan to attend and require special assistance, such as sign language interpretation or other reasonable accommodations, should contact Darlene Harris, Acting Commission Secretary, at (202) 694-1040, at least 72 hours prior to the hearing date.

Person to Contact for Information: Judith Ingram, Press Officer, Telephone: (202) 694-1220.

Darlene Harris,
Acting Secretary of the Commission.

[FR Doc. 2010-4394 Filed 3-2-10; 8:45 am]

BILLING CODE 6715-01-M